DEPARTMENT OF THE INTERIOR

National Park Service

[NPS-WASO-NAGPRA-22598; PPWOCRADN0-PCU00RP14.R50000]

Notice of Intent To Repatriate Cultural Items: Arkansas Archeological Survey, Fayetteville, AR

AGENCY: National Park Service, Interior.

ACTION: Notice.

SUMMARY: The Arkansas Archeological Survey, in consultation with the appropriate Indian tribes or Native Hawaiian organizations, has determined that the cultural items listed in this notice meet the definition of unassociated funerary objects. Lineal descendants or representatives of any Indian tribe or Native Hawaiian organization not identified in this notice that wish to claim these cultural items should submit a written request to the Arkansas Archeological Survey. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arkansas Archeological Survey at the address in this notice by March 27, 2017.

ADDRESSES: Dr. George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3005, of the intent to repatriate cultural items under the control of the Arkansas Archeological Survey that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1979, 1983, and 1986, 27 cultural items were removed from the Belle Meade site (3CT30) in Crittenden County, AR. These unassociated funerary objects were recovered by the University of Memphis in 1979, 1983, and 1986, and were curated at the C.H. Nash Museum in Memphis, TN. These cultural items were transferred to the Arkansas Archeological Survey in December of 2015. The 27 unassociated funerary objects are 10 partial jars, 5 fragmentary bottles, 1 frog effigy, 10 reconstructed bowls, and 1 reconstructed Ogee bowl (Catalog #2016-551, 552, 553, 554, 555, and 556).

At an unknown date, 10 cultural items were removed from the Belle Meade site (3CT30) in Crittenden County, AR. These unassociated funerary objects were donated to the C.H. Nash Museum in Memphis, TN, part of the University of Memphis. These cultural items were transferred to the Arkansas Archeological Survey in December of 2015. The 10 unassociated funerary objects are 1 reconstructed bowl, 1 fragmentary bottle, 5 fragmentary jar, 2 large bag of sherds, and 1 partial Ogee short necked bottle (Catalog # 2016-556, 557).

In 1980 and 1983, 22 cultural items were removed from the Beck site (3CT8) in Crittenden County, AR. These unassociated funerary objects were recovered by the University of Memphis and curated at the C.H. Nash Museum in Memphis, TN. These cultural items were transferred to the Arkansas Archeological Survey in December of 2015. The 22 unassociated funerary objects include 5 reconstructed jars, 1 wide-mouthed bottle, 2 reconstructed effigy bowls, 4 fragmentary bottles, 1 effigy jar, 6 fragmentary bowls, 2 fragmentary jars, and 1 fragmentary teapot vessel (Catalog #2016-473, 477).

The items detailed in this inventory represent late prehistoric and protohistoric items common to large village sites located in the central Mississippi Valley province of northeastern Arkansas. It is difficult to link historic ethnic identities to prehistoric cultural manifestations identified for this region solely on the basis of archeological evidence. In response to this circumstance, modern Native American communities assert cultural affiliations for the purpose of NAGPRA repatriation claims based on settlement locations at the beginning of the Colonial era as documented by early European accounts. Colonial records from the late 17th century and extending through the 18th century place Quapaws in the region encompassed by the modern counties from which the collections listed above are derived. The first treaty the Quapaws signed with the United States, in 1818, further establishes residence and control over, or interest in, these portions of Arkansas.

Determinations Made by the Arkansas Archeological Survey

Officials of the Arkansas Archeological Survey have determined that:

• Pursuant to 25 U.S.C. 3001(3)(B), the 59 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Quapaw Tribe of Indians, Oklahoma.

Additional Requestors and Disposition

Lineal descendants or representatives of any Indian tribe or Native Hawaiian organization not identified in this notice that wish to claim these cultural items should submit a written request with information in support of the claim to Dr. George Sabo, Director, Arkansas Archeological Survey, 2475 North Hatch Avenue, Fayetteville, AR 72704, telephone (479) 575-3556 by March 27, 2017. After that date, if no additional claimants have come forward, transfer of control of the unassociated funerary objects to the Quapaw Tribe of Indians, Oklahoma may proceed.

The Arkansas Archeological Survey is responsible for notifying the Quapaw Tribe of Indians, Oklahoma that this notice has been published.

Dated: December 19, 2016.
Melanie O'Brien,
Manager, National NAGPRA Program.

[FR Doc. 2017-03621 Filed 2-23-17; 8:45 am]

BILLING CODE 4312-52-P